DEPARTMENT OF AGRICULTURE

Office of the Chief Information Officer; Notice of Proposed Information Collection; Comment Request

AGENCY: Office of the Chief Information Officer, USDA.

ACTION: Notice and request for comments.

SUMMARY: The purpose of this notice is to allow 60 days for public comment in the Federal Register preceding submission to OMB. In accordance with the Paperwork Reduction Act of 1995, this notice announces the intention of the Office of the Chief Information Officer (OCIO) to request approval for information collection necessary to allow USDA customers to securely and confidently share data and receive services electronically. Authority for obtaining information from customers is included in the Freedom to E-File Act, the Government Paperwork Elimination Act (GPEA), the Electronic Signatures in Global and National Commerce Act (E-SIGN), and the E-Government Act of 2002. Customer information is collected through the USDA eAuthentication Service, located at http://www.eauth.egov.usda.gov. USDA's eAuthentication Service plays a vital role in the Expanded Electronic Government (e-Government) initiative of the President's Management Agenda. The USDA eAuthentication Service provides the public and government businesses with a single sign-on capability for USDA applications, management of user credentials, and verification of identity, authorization, and electronic signatures. USDA's eAuthentication Service obtains customer information through an electronic self-registration process provided through the eAuthentication Web site. This voluntary online self-registration process enables USDA customers, as well as employees, to obtain accounts as authorized users that will provide single sign-on capability to access USDA Web applications and services via the Internet. The USDA eAuthentication system stems from the Web-based Centralized Authentication and Authorization Facility (WebCAAF), the former USDA authentication system.

DATES: Comments on this notice must be received by September 9, 2005 to be assured consideration.

ADDITIONAL INFORMATION OR COMMENTS: Owen Unangst, Program Manager, Office of the Chief Information Officer, United States Department of Agriculture, NRCS Information Technology Center, 2150 Centre Avenue Building A, Fort Collins, CO 80526-1891 or via e-mail at owen.unangst@ftc.usda.gov.

SUPPLEMENTARY INFORMATION: Title: USDA eAuthentication Service Customer Registration.

OMB Control Number: 0503-0014.

Type of Request: Revision of a currently approved collection.

Abstract: The USDA OCIO has developed the eAuthentication Service as a management and technical process that addresses user authentication and authorization prerequisites for providing services electronically. The process requires a one-time electronic self-registration to obtain an eAuthentication account for each USDA customer desiring access to online services or applications that require user authentication. USDA customers can self-register for a Level 1 or Level 2 Access account. A Level 1 Access account provides users with limited access to USDA Web site portals and applications that have minimal security requirements. A Level 2 Access account enables users to conduct official electronic business transactions via the Internet, enter into a contract with the USDA, and submit forms electronically via the Internet to USDA Agencies. Due to the increased customer access associated with a Level 2 Access account, customers must be authenticated in person at a USDA Service Center by a local registration authority, in addition to an electronic self-registration. Once an account is activated, customers may use the associated user ID and password that they created to access USDA resources that are protected by eAuthentication. It is estimated to take 8 minutes to complete the self-registration process for a Level 1 Access account. A Level 2 Access account registration is estimated to be completed in 1 hour 10 minutes due to the travel time to the USDA Service Center.

Estimate of Burden: Public reporting burden for the collection of information is estimated to average 8 minutes for a Level 1 Access account and 1 hour 10 minutes for a Level 2 Access account per customer.

Respondents: Individual USDA Customers.

Estimated Number of Respondents: 38,604.

Estimated Number of Responses per Respondent: 1.

Estimated Total Annual Burden on Respondents: 18,909.

Proposed topics for comment include: (a) Whether the collection of information is necessary for the proper performance of the functions of the agency, including whether the information will have practical utility; (b) the accuracy of the agencies' estimate of burden, including the validity of the methodology and assumptions used; (c) ways to enhance the quality, utility, and clarity of the information to be collected; or (d) ways to minimize the burden of the collection of the information on those who respond, including the use of appropriate automated, electronic, mechanical, or techniques or other forms of information technology.

Comments should be sent to the Desk Officer for Agriculture, Office of Information and Regulatory Affairs, Office of Management and Budget, OIRA_Submission@omb.eop.gov or Fax (202) 395-5806, and to Owen Unangst, Program Manager, Office of the Chief Information Officer, United States Department of Agriculture, NRCS Information Technology Center, 2150 Centre Avenue Building A, Fort Collins, CO 80526-1891, e-mail owen.unangst@ftc.usda.gov. All comments received will be available for public inspection during regular business hours at the same address. Copies of the information collection may be obtained from Mr. Unangst at the address above. All responses to this notice will be summarized and included in the request for OMB approval. All comments will become a matter of public record.

Dated: July 5, 2005.
Dave Combs,
Acting Chief Information Officer, Office of the Chief Information Officer.

[FR Doc. 05-13538 Filed 7-8-05; 8:45 am]

BILLING CODE 3410-KR-P